DEPARTMENT OF ENERGY

[Docket No. EA-182-B]

Application To Export Electric Energy H.Q. Energy Services (U.S.) Inc.

AGENCY: Office of Electricity Delivery and Energy Reliability, DOE.

ACTION: Notice of application.

SUMMARY: H.Q. Energy Services (U.S.) Inc. (HQUS), applied to renew its authority to transmit electric energy from the United States to Canada pursuant to section 202(e) of the Federal Power Act.

DATES: Comments, protests or requests to intervene must be submitted on or before July 25, 2005.

ADDRESSES: Comments, protests or requests to intervene should be addressed as follows: Office of Electricity Delivery and Energy Reliability (OE-20), U.S. Department of Energy, 1000 Independence Avenue, SW., Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On August 21, 1998, the Department of Energy (DOE) issued Order No. EA-182 authorizing HQUS to transmit electric energy from the United States to Canada as a power marketer. On August 21, 2000, in Order No. EA-182-A, DOE renewed the HQUS authorization to export electric energy to Canada for a five-year term that will expire on August 21, 2005.

On May 18, 2005, HQUS filed an application with DOE for renewal of the export authority contained in Order No. EA-182-A for an additional five-year term. HQUS proposes to export electric energy to Canada and to arrange for the delivery of those exports over the international transmission facilities presently owned by Basin Electric Power Cooperative, Bonneville Power Administration, Eastern Maine Electric Cooperative, International Transmission Company, Joint Owners of the Highgate Project, Long Sault, Inc., Maine Electric Power Company, Maine Public Service Company, Minnesota Power, Inc., Minnkota Power Cooperative, New York Power Authority, Niagara Mohawk Power Corporation, Northern States Power, Vermont Electric Power Company, Inc. and Vermont Electric Transmission Company.

Procedural Matters: Any person desiring to become a party to these proceedings or to be heard by filing comments or protests to this application should file a petition to intervene, comment or protest at the address provided above in accordance with §§ 385.211 or 385.214 of the FERC's Rules of Practice and Procedures (18 CFR 385.211, 385.214). Fifteen copies of each petition and protest should be filed with the DOE on or before the dates listed above.

Comments on the HQUS application to export electric energy to Canada should be clearly marked with Docket EA-182-B. Additional copies are to be filed directly with Helene Cossette, Senior Legal Advisor, Legal and Regulatory Affairs, Wholesale Markets, Hydro-Quebec Production 75, Boulevard Rene-Levesque West, 17th Floor, Montreal, Quebec, Canada H2Z 1A4, AND Jerry L. Pfeffer, Energy Industries Advisor, W. Mason Emnett, Skadden, Arps, Slate, Meagher & Flom LLP, 1440 New York Avenue, NW., Washington, DC 20005.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's home page at http://www.fe.doe.gov. Upon reaching the program home page, select “Electricity Regulation,” and then “Pending Proceedings” from the options menus.

Issued in Washington, DC, on June 17, 2005.
Ellen Russell,
Acting Senior Advisor to the Director for Regulatory Programs, Office of Electricity Delivery and Energy Reliability.

[FR Doc. 05-12426 Filed 6-22-05; 8:45 am]

BILLING CODE 6450-01-P